DEPARTMENT OF HOUSING AND URBAN DEVELOPMENT

[Docket No. FR-6395-N-01]

Notice of Regulatory Waiver Requests Granted for the First Quarter of Calendar Year 2023

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2023, and ending on March 31, 2023.

FOR FURTHER INFORMATION CONTACT: For general information about this notice, contact Aaron Santa Anna, Associate General Counsel for Legislation and Regulations, Department of Housing and Urban Development, 451 Seventh Street SW, Room 10276, Washington, DC 20410-0500, telephone 202-708-3055 (this is not a toll-free number). HUD welcomes and is prepared to receive calls from individuals who are deaf or hard of hearing, as well as individuals with speech or communication disabilities.

To learn more about how to make an accessible telephone call, please visit: https://www.fcc.gov/consumers/guides/telecommunications-relay-service-trs.

For information concerning a particular waiver that was granted and for which public notice is provided in this document, contact the person whose name and address follow the description of the waiver granted in the accompanying list of waivers that have been granted in the first quarter of calendar year 2023.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2023, through March 31, 2023. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2023) before the next report is published (the second quarter of calendar year 2023), HUD will include any additional waivers granted for the first quarter in the next report.

Accordingly, information about approved waiver requests pertaining to HUD regulations is provided in the Appendix that follows this notice.

Damon Y. Smith,
General Counsel.

Appendix

Listing of Waivers of Regulatory Requirements Granted by Offices of the Department of Housing and Urban Development January 1, 2023, Through March 31, 2023

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

I. Regulatory Waivers Granted by the Office of Community Planning and Development

For further information about the following regulatory waivers, please see the name of the contact person that immediately follows the description of the waiver granted.

I. Mega-Waiver for California Severe Winter Storms, Flooding, Landslides, and Mudslides—Continuum of Care (CoC) Program

On February 9, 2023, Principal Deputy Assistant Secretary Marion McFadden issued a memorandum offering waivers of certain statutory and regulatory requirements associated with several Community Planning and Development (CPD) grant programs to address damage and facilitate recovery from severe winter storms, flooding, landslides, and mudslides in areas of California covered by a major disaster declaration under Title IV of the Robert T. Stafford Disaster Relief and Emergency Assistance Act (Stafford Act), DR-4698-AR, dated January 14, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: The 24-month limit on rental assistance is waived for two years for individuals and families who meet the following criteria. (1) The individual or family lives in a declared-disaster area or was displaced from a declared-disaster area as a result of the disaster; and (2) the individual or family is currently receiving rental assistance or begins receiving rental assistance within two years after the date of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: February 9, 2023.

Reason Waived: Waiving the 24-month cap on rapid re-housing rental assistance will assist individuals and families affected by the disaster, including those already receiving rental assistance as well as those who will receive rental assistance within 2 years of the date of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone (202) 708-4300.

CoC—One Year Lease Requirement

• Regulation: 24 CFR 578.3, definition of permanent housing, 24 CFR 578.51(l)(1).

Project/Activity: The one-year lease requirement is waived for two years beginning on the date the waiver was granted for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: February 9, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone (202) 708-4300.

CoC—One-Time Limit on Moving Costs

• Regulation: 24 CFR 578.53(e)(2).

Project/Activity: The one-time limit on moving costs of program participants is waived for two years beginning on the date of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: February 9, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: February 9, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: February 9, 2023.

Reason Waived: Waiving the requirement to obtain additional evidence of disability as provided in 24 CFR 578.103(a)(4)(i)(B)(4)) as specified below will allow recipient to house people impacted by severe winter storms, flooding, landslides, and mudslides in California by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone (202) 708-4300.

II. Mega-Waiver for California Severe Winter Storms, Flooding, Landslides, and Mudslides—Emergency Solutions Grants (ESG) Program

On February 9, 2023, Principal Deputy Assistant Secretary Marion McFadden issued a memorandum offering waivers of certain statutory and regulatory requirements associated with several Community Planning and Development (CPD) grant programs to address damage and facilitate recovery from severe winter storms, flooding, landslides, and mudslides in areas of California covered by a major disaster declaration under Title IV of the Robert T. Stafford Disaster Relief and Emergency Assistance Act (Stafford Act), DR-4698-AR, dated January 14, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2)—Term Limits on Rental Assistance and Housing Relocation and Stabilization Services.

Project/Activity: The 24-month limits on rental assistance and housing relocation and stabilization services are waived for individuals and families who meet both of the following criteria: (1) the individual or family lives in a declared-disaster area or was displaced from a declared-disaster area as a result of severe winter storms, flooding, landslides, and mudslides in areas of California; and (2) the individual or family is currently receiving rental assistance or housing relocation stabilization services or begins receiving rental assistance or housing relocation and stabilization services within two years after the date of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: February 9, 2023.

Reason Waived: Waiving the 24-month caps on rental assistance, utility payments, and housing stability case management assistance will assist individuals and families, both those already receiving assistance and those who will receive assistance subsequent to the date of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

ESG—Restriction of Rental Assistance to Units With Rent at or Below Fair Market Rent (FMR)

• Regulation: 24 CFR 576.106(d)(1).

Project/Activity: The FMR restriction is waived for any rent amount that takes effect during the two-year period beginning on the date of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: February 9, 2023.

Reason Waived: HUD granted this waiver to enable ESG recipients to meet the critical housing needs of individuals and families whose housing was damaged or who were displaced as a result of severe winter storms, flooding, landslides, and mudslides in California. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions as defined in Notice PIH 2017-20 (HA); and 3. Recipients must make sure all units in which program participants are assisted meet the ESG housing standards within 60 days of the date of the waiver.

Nature of Requirement: If ESG funds are used to help a program participant remain in or move into housing, the housing must meet the minimum habitability standards provided in 24 CFR 576.403(c).

Granted By: Marion McFadden, Principal Deputy Assistant Secretary for Community Planning and Development.

Date Granted: February 9, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: February 9, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: February 9, 2023.

Reason Waived: Providing a limited waiver of the expenditure deadline as described in the applicability paragraph below will support recipients' ability to assist individuals and families as provided by ESG waivers on term limits on rental assistance and housing relocation and stabilization services; restriction of rental assistance to units with rent at or below FMR; and assisting program participants with subleases.

Contact: Norm Suchar, Director, Office of Special Needs Assistance Programs, Office of Community Planning and Development, Department of Housing and Urban Development, 451 Seventh Street SW, Room 7262, Washington, DC 20410, telephone (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: 1. The individual or family lives in the declared-disaster area or was displaced from the declared-disaster area as a result severe winter storms, flooding, landslides, and mudslides in California; 2. The individual or family is currently receiving ESG-funded rental assistance as the leaseholder or housing relocation stabilization services or begins receiving rental assistance or housing relocation stabilization services within two years after the date of the waiver; 3. The individual or family chooses to rent a unit through a legally valid sublease or lease with the primary leaseholder for the unit; and 4. The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: February 9, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone (202) 708-4300.

III. Mega-Waiver for Alabama Severe Storms, Straight-Line Winds, and Tornadoes—CoC

On February 9, 2023, Principal Deputy Assistant Secretary Marion McFadden issued a memorandum offering waivers of certain statutory and regulatory requirements associated with several Community Planning and Development (CPD) grant programs to address damage and facilitate recovery from Alabama severe storms, straight-line winds, and tornadoes covered by a major disaster declaration under Title IV of the Robert T. Stafford Disaster Relief and Emergency Assistance Act (Stafford Act), DR-4698-AR, dated January 15, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the date of the waiver, the 24-month limit on rental assistance is waived for individuals and families who meet the following criteria. (1) The individual or family lives in a declared-disaster area or was displaced from a declared-disaster area as a result of the disaster; and (2) the individual or family is currently receiving rental assistance or begins receiving rental assistance within two years after the date of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: February 9, 2023.

Reason Waived: Waiving the 24-month cap on rapid re-housing rental assistance will assist individuals and families affected by the disaster, including those already receiving rental assistance as well as those who will receive rental assistance within 2 years of the date of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone (202) 708-4300.

CoC—One Year Lease Requirement

• Regulation: 24 CFR 578.3, definition of permanent housing, 24 CFR 578.51(l)(1).

Project/Activity: The one-year lease requirement is waived for two years beginning on the date of the waiver for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: February 9, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone (202) 708-4300.

CoC—One-Time Limit on Moving Costs

• Regulation: 24 CFR 578.53(e)(2).

Project/Activity: The one-time limit on moving costs of program participants is waived for two years beginning on the date of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: February 9, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: February 9, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: February 9, 2023.

Reason Waived: Waiving the requirement to obtain additional evidence of disability as provided in 24 CFR 578.103(a)(4)(i)(B)(4)) as specified below will allow recipient to house people impacted by severe storms, straight-line winds, and tornadoes in Alabama by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone (202) 708-4300.

IV. Mega-Waiver for Alabama Severe Storms, Straight-Line Winds, and Tornadoes—ESG

On February 9, 2023, Principal Deputy Assistant Secretary Marion McFadden issued a memorandum offering waivers of certain statutory and regulatory requirements associated with several Community Planning and Development (CPD) grant programs to address damage and facilitate recovery from severe storms, straight-line winds, and tornadoes in areas of Alabama covered by a major disaster declaration under Title IV of the Robert T. Stafford Disaster Relief and Emergency Assistance Act (Stafford Act), DR-4698-AR, dated January 15, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2) Term limits on Rental Assistance and Housing Relocation and Stabilization Services.

Project/Activity: The 24-month limits on rental assistance and housing relocation and stabilization services are waived for individuals and families who meet both of the following criteria: (1) the individual or family lives in a declared-disaster area or was displaced from a declared-disaster area as a result of severe storms, straight-line winds, and tornadoes in Alabama; and (2) the individual or family is currently receiving rental assistance or housing relocation stabilization services or begins receiving rental assistance or housing relocation and stabilization services within two years after the date of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: February 9, 2023.

Reason Waived: Waiving the 24-month caps on rental assistance, utility payments, and housing stability case management assistance will assist individuals and families, both those already receiving assistance and those who will receive assistance subsequent to the date of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

ESG—Restriction of Rental Assistance to Units With Rent at or Below Fair Market Rent (FMR)

• Regulation: 24 CFR 576.106(d)(1).

Project/Activity: The FMR restriction is waived for any rent amount that takes effect during the two-year period beginning on the date of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: February 9, 2023.

Reason Waived: HUD granted this waiver to enable ESG recipients to meet the critical housing needs of individuals and families whose housing was damaged or who were displaced as a result of severe storms, straight-line winds, and tornadoes in Alabama. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions as defined in Notice PIH 2017-20 (HA); and 3. Recipients must make sure all units in which program participants are assisted meet the ESG housing standards within 60 days of the date of the waiver.

Nature of Requirement: If ESG funds are used to help a program participant remain in or move into housing, the housing must meet the minimum habitability standards provided in 24 CFR 576.403(c).

Granted By: Marion McFadden, Principal Deputy Assistant Secretary for Community Planning and Development.

Date Granted: February 9, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: February 9, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: February 9, 2023.

Reason Waived: Providing a limited waiver of the expenditure deadline as described in the applicability paragraph below will support recipients' ability to assist individuals and families as provided by waivers 19 and 20 above.

Contact: Norm Suchar, Director, Office of Special Needs Assistance Programs, Office of Community Planning and Development, Department of Housing and Urban Development, 451 Seventh Street SW, Room 7262, Washington, DC 20410, telephone (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: 1. The individual or family lives in the declared-disaster area or was displaced from the declared-disaster area as a result of severe storms, straight-line winds, and tornadoes in Alabama; 2. The individual or family is currently receiving ESG-funded rental assistance as the leaseholder or housing relocation stabilization services or begins receiving rental assistance or housing relocation stabilization services within two years after the date of the waiver; 3. The individual or family chooses to rent a unit through a legally valid sublease or lease with the primary leaseholder for the unit; and 4. The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: February 9, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone (202) 708-4300.

V. Mega-Waiver for Mississippi Severe Storms, Straight-Line Winds, and Tornadoes—CoC

On March 30, 2023, Principal Deputy Assistant Secretary Marion McFadden issued a memorandum offering waivers of certain statutory and regulatory requirements associated with several Community Planning and Development (CPD) grant programs to address damage and facilitate recovery from Mississippi severe storms, straight-line winds, and tornadoes covered by a major disaster declaration under Title IV of the Robert T. Stafford Disaster Relief and Emergency Assistance Act (Stafford Act), DR-4698-AR, dated March26, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the date of the waiver, the 24-month limit on rental assistance is waived for individuals and families who meet the following criteria. (1) The individual or family lives in a declared-disaster area or was displaced from a declared-disaster area as a result of the disaster; and (2) the individual or family is currently receiving rental assistance or begins receiving rental assistance within two years after the date of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: March 30, 2023.

Reason Waived: Waiving the 24-month cap on rapid re-housing rental assistance will assist individuals and families affected by the disaster, including those already receiving rental assistance as well as those who will receive rental assistance within 2 years of the date of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

CoC—One Year Lease Requirement

• Regulation: 24 CFR 578.3, definition of permanent housing, 24 CFR 578.51(l)(1).

Project/Activity: The one-year lease requirement is waived for two years beginning on the date of the waiver for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: March 30, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

CoC—One-Time Limit on Moving Costs

• Regulation: 24 CFR 578.53(e)(2).

Project/Activity: The one-time limit on moving costs of program participants is waived for two years beginning on the date of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: March 30, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: March 30, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: March 30, 2023.

Reason Waived: Waiving the requirement to obtain additional evidence of disability as provided in 24 CFR 578.103(a)(4)(i)(B)(4)) as specified below will allow recipient to house people impacted from severe storms, straight-line winds, and tornadoes in Mississippi by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone number (202) 708-4300.

VI. Mega-Waiver for Mississippi Severe Storms, Straight-Line Winds, and Tornadoes—ESG

On March 30, 2023, Principal Deputy Assistant Secretary Marion McFadden issued a memorandum offering waivers of certain statutory and regulatory requirements associated with several Community Planning and Development (CPD) grant programs to address damage and facilitate recovery from severe storms, straight-line winds, and tornadoes in areas of Mississippi covered by a major disaster declaration under Title IV of the Robert T. Stafford Disaster Relief and Emergency Assistance Act (Stafford Act), DR-4698-AR, dated March 26, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2)—Term limits on Rental Assistance and Housing Relocation and Stabilization Services

Project/Activity: The 24-month limits on rental assistance and housing relocation and stabilization services are waived for individuals and families who meet both of the following criteria: (1) the individual or family lives in a declared-disaster area or was displaced from a declared-disaster area as a result of severe storms, straight-line winds, and tornadoes in Mississippi; and (2) the individual or family is currently receiving rental assistance or housing relocation stabilization services or begins receiving rental assistance or housing relocation and stabilization services within two years after the date of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: March 30, 2023.

Reason Waived: Waiving the 24-month caps on rental assistance, utility payments, and housing stability case management assistance will assist individuals and families, both those already receiving assistance and those who will receive assistance subsequent to the date of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below Fair Market Rent (FMR)

• Regulation: 24 CFR 576.106(d)(1).

Project/Activity: The FMR restriction is waived for any rent amount that takes effect during the two-year period beginning on the date of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: March 30, 2023.

Reason Waived: HUD granted this waiver to enable ESG recipients to meet the critical housing needs of individuals and families whose housing was damaged or who were displaced as a result of severe storms, straight-line winds, and tornadoes in Mississippi. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions as defined in Notice PIH 2017-20 (HA); and 3. Recipients must make sure all units in which program participants are assisted meet the ESG housing standards within 60 days of the date of the waiver.

Nature of Requirement: If ESG funds are used to help a program participant remain in or move into housing, the housing must meet the minimum habitability standards provided in 24 CFR 576.403(c).

Granted By: Marion McFadden, Principal Deputy Assistant Secretary for Community Planning and Development.

Date Granted: March 30, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters

Nature of Requirement: If ESG funds are used for shelter operations costs, the shelter must meet the minimum safety, sanitation, and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: March 30, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: March 30, 2023.

Reason Waived: The expenditure deadline is waived only for costs of providing homelessness prevention and rapid re-housing assistance to individuals and families under the flexibility provided by other the ESG waivers on term limits on rental assistance and housing relocation and stabilization services; restriction of rental assistance to units with rent at or below FMR; assisting program participants with subleases; and reasonable HMIS and administrative costs related to that assistance. This waiver may be used for program participants affected by the disaster, even if they are residing outside of the disaster area. However, no expenditure may be made or charged to any grant on or after the date Treasury closes the relevant account as provided by 31 U.S.C. 1552.

Contact: Norm Suchar, Director, Office of Special Needs Assistance Programs, Office of Community Planning and Development, Department of Housing and Urban Development, 451 Seventh Street SW, Room 7262, Washington, DC 20410, telephone number (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: 1. The individual or family lives in the declared-disaster area or was displaced from the declared-disaster area as a result of severe storms, straight-line winds, and tornadoes in Mississippi; 2. The individual or family is currently receiving ESG-funded rental assistance as the leaseholder or housing relocation stabilization services or begins receiving rental assistance or housing relocation stabilization services within two years after the date of the waiver; 3. The individual or family chooses to rent a unit through a legally valid sublease or lease with the primary leaseholder for the unit; and 4. The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: March 30, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone number (202) 708-4300.

• Regulation: 24 CFR 92.252(d)(l) Utility Allowance Requirements.

Project/Activity: The City of Los Angeles, California requested a waiver of 24 CFR 92.252(d)(1) to allow use of the utility allowance established by the local public housing agency (PHA) for Florence Mills Apartments, Pico Robertson Senior Community Apartments, and LA Pro II Apartments, three HOME-assisted projects.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Marion M. McFadden, Principal Deputy Assistant Secretary for Community Planning and Development.

Date Granted: January 26, 2023.

Reason Waived: The HOME requirements for establishing utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Department of Housing and Urban Development, 451 Seventh Street SW, Room 7160, Washington, DC 20410, telephone (202) 708-2684.

• Regulation: 24 CFR 92.203(a)(1) and (2).

Project/Activity: Projects located in the declared-disaster areas (see FEMA-DR-4683-CA).

Nature of Requirement: These sections of the HOME regulation require initial income determinations for HOME beneficiaries by examining source documents covering the most recent two months. Many families whose housing was destroyed or damaged by the disaster will not have any documentation of income and will not be able to qualify for HOME assistance if the requirement remains effective.

Granted By: Marion McFadden, Principal Deputy Assistant Secretary for Community Planning and Development.

Date Granted: February 9, 2023.

Reason Waived: This waiver permits the participating jurisdiction to use self-certification of income, as provided in 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as documented by FEMA registration) whose income documentation was destroyed or made inaccessible by the disaster and remains in effect for six months from February 9, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Department of Housing and Urban Development, 451 Seventh Street SW, Room 7160, Washington, DC 20410, telephone (202) 708-2684.

• Regulation: 24 CFR 92.209(e), (h)(1), and (i).

Project/Activity: Projects located in the declared-disaster areas (see FEMA-DR-4683-CA).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion McFadden, Principal Deputy Assistant Secretary for Community Planning and Development.

Date Granted: February 9, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below. The requirement in 24 CFR 92.209(e) that the start date of a TBRA contract begin on the first day of the term of a tenant's lease is waived for TBRA contracts a participating jurisdiction executes for persons or families displaced by the disaster, as evidenced by the tenant's FEMA registration or other relevant documentation acceptable to the participating jurisdiction, for a period of 24 months after February 9, 2023. The provision of 24 CFR 92.209(h)(1) imposing the maximum amount of TBRA assistance a participating jurisdiction may provide to a family under HOME TBRA is waived for TBRA recipients who are displaced by the disaster, as evidenced by the family's FEMA registration, for a period of 24 months after February 9, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the participating jurisdiction for a period of 24 months after February 9, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Community Planning and Development, Department of Housing and Urban Development, 451 Seventh Street SW, Room 7160, Washington, DC 20410, telephone (202) 708-2684.

• Regulation: 24 CFR 92.222(b)(1).

Project/Activity: Any participating jurisdiction located in the declared-disaster areas (see FEMA-DR-4683-CA).

Nature of Requirement: Section 220(a) of the Cranston-Gonzalez National Affordable Housing Act (42 U.S.C. 12750(a)) (NAHA) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, 92.222(b)(1) imposes certain conditions in granting the reduction to the matching requirement which HUD has determined there is sufficient good cause to waive. Waiving the conditions required to reduce the match requirement for the participating jurisdiction by 100 percent for FY 2023 and FY 2024 will eliminate administrative burden on affected participating jurisdictions and the need for the participating jurisdiction to identify match for HOME projects related to the damage caused by the disaster.

Granted By: Marion McFadden, Principal Deputy Assistant Secretary for Community Planning and Development.

Date Granted: February 9, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022, through September 30, 2024. The waiver also applies to State-funded HOME projects located in declared-disaster areas.

Contact: Virginia Sardone, Director, Office of Affordable Housing Programs, Community Planning and Development, Department of Housing and Urban Development, 451 Seventh Street SW, Room 7160, Washington, DC 20410, telephone (202) 708-2684.

• Regulation: 24 CFR 92.251.

Project/Activity: Projects located in the declared-disaster areas (see FEMA-DR-4683-CA).

Nature of Requirement: This provision requires that housing assisted with HOME funds meet property standards based on the activity undertaken, i.e., acquisition of housing including through homebuyer assistance, and state and local standards and codes or model codes for rehabilitation and new construction. Property standard requirements are waived for repair of properties damaged by the disaster. Units must meet State and local health and safety codes. The lead housing safety regulations established in 24 CFR part 35 are not waived. Also, accessibility requirements at 24 CFR 92.251(a)(2)(i) are not waived.

Granted By: Marion McFadden, Principal Deputy Assistant Secretary for Community Planning and Development.

Date Granted: February 9, 2023.

Reason Waived: This waiver is required to enable the participating jurisdiction to meet the critical housing needs of families whose housing was damaged and families who were displaced by the disaster.

Applicability: This waiver applies only to housing units located in the declared-disaster areas which were damaged by the disaster and to which HOME funds are committed within two years of February 9, 2023.

Contact: Virginia Sardone, Director, Office of Affordable Housing Programs, Community Planning and Development, Department of Housing and Urban Development, 451 Seventh Street SW, Room 7160, Washington, DC 20410, telephone (202) 708-2684.

• Regulation: 24 CFR 93.151(c).

Project/Activity: Projects located in the declared-disaster areas (see FEMA-DR-4683-CA).

Nature of Requirement: This section of the HTF regulation requires initial income determinations for HTF beneficiaries by examining source documents covering the most recent two months. Many families whose homes were destroyed or damaged by the disaster will not have any documentation of income and will not be able to qualify for HTF assistance if the requirement remains effective.

Granted By: Marion McFadden, Principal Deputy Assistant Secretary for Community Planning and Development.

Date Granted: February 9, 2023.

Reason Waived: This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from February 9, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Community Planning and Development, Department of Housing and Urban Development, 451 Seventh Street SW, Room 7160, Washington, DC 20410, telephone (202) 708-2684.

• Regulation: 24 CFR 92.203(a)(1) and (2).

Project/Activity: Projects located in the declared-disaster areas (see FEMA-DR-4684-AL).

Nature of Requirement: These sections of the HOME regulation require initial income determinations for HOME beneficiaries by examining source documents covering the most recent two months. Many families whose housing was destroyed or damaged by the disaster will not have any documentation of income and will not be able to qualify for HOME assistance if the requirement remains effective.

Granted By: Marion McFadden, Principal Deputy Assistant Secretary for Community Planning and Development.

Date Granted: February 9, 2023.

Reason Waived: This waiver permits the participating jurisdiction to use self-certification of income, as provided in 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as documented by FEMA registration) whose income documentation was destroyed or made inaccessible by the disaster and remains in effect for six months from February 9, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Department of Housing and Urban Development, 451 Seventh Street SW, Room 7160, Washington, DC 20410, telephone (202) 708-2684.

• Regulation: 24 CFR 92.209(e), (h)(1), and (i).

Project/Activity: Projects located in the declared-disaster areas (see FEMA-DR-4684-AL).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion McFadden, Principal Deputy Assistant Secretary for Community Planning and Development.

Date Granted: February 9, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below. The requirement in 24 CFR 92.209(e) that the start date of a TBRA contract begin on the first day of the term of a tenant's lease is waived for TBRA contracts a participating jurisdiction executes for persons or families displaced by the disaster, as evidenced by the tenant's FEMA registration or other relevant documentation acceptable to the participating jurisdiction, for a period of 24 months after February 9, 2023. The provision of 24 CFR 92.209(h)(1) imposing the maximum amount of TBRA assistance a participating jurisdiction may provide to a family under HOME TBRA is waived for TBRA recipients who are displaced by the disaster, as evidenced by the family's FEMA registration, for a period of 24 months after February 9, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the participating jurisdiction for a period of 24 months after February 9, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Community Planning and Development, Department of Housing and Urban Development, 451 Seventh Street SW, Room 7160, Washington, DC 20410, telephone (202) 708-2684.

• Regulation: 24 CFR 92.222(b)(1).

Project/Activity: Projects located in the declared-disaster areas (see FEMA-DR-4684-AL).

Nature of Requirement: Section 220(a) of NAHA (42 U.S.C. 12750(a)) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive. Waiving the conditions required to reduce the match requirement for the participating jurisdiction by 100 percent for FY 2023 and FY 2024 will eliminate administrative burden on affected participating jurisdictions and the need for the participating jurisdiction to identify match for HOME projects related to the damage caused by the disaster.

Granted By: Marion McFadden, Principal Deputy Assistant Secretary for Community Planning and Development.

Date Granted: February 9, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022 through September 30, 2024. The waiver also applies to State-funded HOME projects located in declared-disaster areas.

Contact: Virginia Sardone, Director, Office of Affordable Housing Programs, Community Planning and Development, Department of Housing and Urban Development, 451 Seventh Street SW, Room 7160, Washington, DC 20410, telephone (202) 708-2684.

• Regulation: 24 CFR 92.251.

Project/Activity: Projects located in the declared-disaster areas (see FEMA-DR-4684-AL).

Nature of Requirement: This provision requires that housing assisted with HOME funds meet property standards based on the activity undertaken, i.e., acquisition of housing including through homebuyer assistance, and state and local standards and codes or model codes for rehabilitation and new construction. Property standard requirements are waived for repair of properties damaged by the disaster. Units must meet State and local health and safety codes. The lead housing safety regulations established in 24 CFR part 35 are not waived. Also, accessibility requirements at 24 CFR 92.251(a)(2)(i) are not waived.

Granted By: Marion McFadden, Principal Deputy Assistant Secretary for Community Planning and Development.

Date Granted: February 9, 2023.

Reason Waived: This waiver is required to enable the participating jurisdiction to meet the critical housing needs of families whose housing was damaged and families who were displaced by the disaster.

Applicability: This waiver applies only to housing units located in the declared-disaster areas which were damaged by the disaster and to which HOME funds are committed within two years of February 9, 2023.

Contact: Virginia Sardone, Director, Office of Affordable Housing Programs, Community Planning and Development, Department of Housing and Urban Development, 451 Seventh Street SW, Room 7160, Washington, DC 20410, telephone (202) 708-2684.

• Regulation: 24 CFR 93.151(c).

Project/Activity: Projects located in the declared-disaster areas (see FEMA-DR-4684-AL).

Nature of Requirement: This section of the HTF regulation requires initial income determinations for HTF beneficiaries by examining source documents covering the most recent two months. Many families whose homes were destroyed or damaged by the disaster will not have any documentation of income and will not be able to qualify for HTF assistance if the requirement remains effective.

Granted By: Marion McFadden, Principal Deputy Assistant Secretary for Community Planning and Development.

Date Granted: February 9, 2023.

Reason Waived: This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from February 9, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Community Planning and Development, Department of Housing and Urban Development, 451 Seventh Street SW, Room 7160, Washington, DC 20410, telephone (202) 708-2684.

• Regulation: 24 CFR 92.300(a)(2).

Project/Activity: The City of Muncie, Indiana, requested a waiver of 24 CFR 92.300(a)(2) to permit Bridges Community Services, Inc. (Bridges) a community housing development organization (CHDO), to transfer ownership of a HOME-assisted project, designated as HOME IDIS activity #2518, to Muncie Management, Inc., a non-CHDO for-profit corporation, that will own and operate the HOME-assisted project in accordance with 24 CFR part 92.

Nature of Requirement: The regulation at 24 CFR 92.300(a)(2) requires that rental housing developed with CHDO set-aside funds under 24 CFR 92.300(a) must be owned by the CHDO for a period at least equal to the period of affordability in 24 CFR 92.252(e).

Granted By: Marion M. McFadden, Principal Deputy Assistant Secretary for Community Planning and Development.

Date Granted: February 13, 2023.

Reason Waived: Muncie Management, Inc does not meet the definition of a CHDO at 24 CFR 92.2. This waiver will permit the transfer of this HOME-assisted project to Muncie Management, Inc, which will own and operate the project in accordance with the HOME requirements in 24 CFR part 92 for the duration of the HOME period of affordability in 24 CFR 92.252(e). Without a waiver of 24 CFR 92.300(a)(2), the HOME-assisted project may fall into disrepair, be lost to foreclosure, or fail to remain as affordable housing operated in accordance with 24 CFR part 92 throughout the HOME period of affordability and the City would be required to repay its HOME investment for the acquisition of the HOME-assisted project. As a condition to the waiver, the City must complete its proposed actions to assign the HOME written agreement to MMI and record an amended deed restriction in compliance with 24 CFR 92.252 for the remainder of the HOME period of affordability.

Contact: Virginia Sardone, Director, Office of Affordable Housing Programs, Department of Housing and Urban Development, 451 Seventh Street SW, Room 7160, Washington, DC 20410, telephone (202) 708-2684.

• Regulation: 24 CFR 92.252(d)(l) Utility Allowance Requirements.

Project/Activity: San Luis Obispo County, California, requested a waiver of 24 CFR 92.252(d)(1) to allow use of the utility allowance established by the local PHA for Willow Walk Senior Apartments, and Los Angeles County, California requested a waiver of 24 CFR 92.252(d)(1) to allow use of the utility allowance established by the local PHA for Stanford Avenue Apartments. Each project is HOME-assisted.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Marion M. McFadden, Principal Deputy Assistant Secretary for Community Planning and Development.

Date Granted: February 14, 2023.

Reason Waived: The HOME requirements for establishing utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Department of Housing and Urban Development, 451 Seventh Street SW, Room 7160, Washington, DC 20410, telephone (202) 708-2684.

• Regulation: 24 CFR 92.2, 24 CFR 92.254(b)(2).

Project/Activity: The State of California requested waivers of the HOME definition of reconstruction at 24 CFR 92.2 to permit the commitment of funds after 12 months from the date of destruction and the principal residency requirement at 24 CFR 92.254(b)(2) to permit the State to use HOME funds for the reconstruction of homes on the same lot in the Town of Paradise, California, where the properties were destroyed in the November 8, 2018, Camp wildfire disaster, but which may not be the owner's principal residence at the time HOME funds are committed to the project.

Nature of Requirement: The regulation at 24 CFR 92.2 defines reconstruction as “rebuilding, on the same lot, of housing standing on a site at the time of project commitment, except that housing that was destroyed may be rebuilt on the same lot if HOME funds are committed within 12 months of the date of destruction.” For the purposes of the HOME program, reconstruction is considered a rehabilitation activity. The regulation at § 92.254(b)(2) requires that the rehabilitated housing be “the principal residence of an owner whose family qualifies as a low-income family at the time HOME funds are committed to the housing.”

Granted By: Marion M. McFadden, Principal Deputy Assistant Secretary for Community Planning and Development.

Date Granted: March 22, 2023.

Reason Waived: More than 4 years have passed since the Camp wildfire disaster destroyed owner-occupied housing in the Town of Paradise. Requiring the State to adhere to the 12-month requirement in the definition of reconstruction and the requirement that a homeowner occupy their home as a principal residence at the time HOME assistance is committed would create a significant hardship for income-eligible homeowners in the Town of Paradise in need of assistance to rebuild their homes on the existing lots. A waiver of § 92.2 to permit the commitment of funds after 12 months from the date of destruction will allow the State to use HOME funds to assist eligible homeowners whose principal residences were destroyed by the 2018 Camp wildfire to reconstruct their homes on the same site. A waiver of § 92.254(b)(2)'s principal residency requirement will allow the State to use HOME funds to assist eligible homeowners with homes that were damaged or destroyed by the Camp wildfire and that may not be their principal residences (because of displacement due to the disaster) at the time HOME funds are committed to the project.

Contact: Virginia Sardone, Director, Office of Affordable Housing Programs, Department of Housing and Urban Development, 451 Seventh Street SW, Room 7160, Washington, DC 20410, telephone (202) 708-2684.

• Regulation: 24 CFR 92.203(a)(1) and (2).

Project/Activity: Projects located in the declared-disaster areas (see FEMA-DR-4697-MS).

Nature of Requirement: These sections of the HOME regulation require initial income determinations for HOME beneficiaries by examining source documents covering the most recent two months. Many families whose housing was destroyed or damaged by the disaster will not have any documentation of income and will not be able to qualify for HOME assistance if the requirement remains effective.

Granted By: Marion McFadden, Principal Deputy Assistant Secretary for Community Planning and Development.

Date Granted: March 30, 2023.

Reason Waived: This waiver permits the participating jurisdiction to use self-certification of income, as provided in § 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as documented by FEMA registration) whose income documentation was destroyed or made inaccessible by the disaster and remains in effect for six months from March 30, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Department of Housing and Urban Development, 451 Seventh Street SW, Room 7160, Washington, DC 20410, telephone (202) 708-2684.

• Regulation: 24 CFR 92.209(e), (h)(1), and (i).

Project/Activity: Projects located in the declared-disaster areas (see FEMA-DR-4697-MS).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion McFadden, Principal Deputy Assistant Secretary for Community Planning and Development.

Date Granted: March 30, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below. The requirement in 24 CFR 92.209(e) that the start date of a TBRA contract begin on the first day of the term of a tenant's lease is waived for TBRA contracts a participating jurisdiction executes for persons or families displaced by the disaster, as evidenced by the tenant's FEMA registration or other relevant documentation acceptable to the participating jurisdiction, for a period of 24 months after March 30, 2023. The provision of 24 CFR 92.209(h)(1) imposing the maximum amount of TBRA assistance a participating jurisdiction may provide to a family under HOME TBRA is waived for TBRA recipients who are displaced by the disaster, as evidenced by the family's FEMA registration, for a period of 24 months after March 30, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the participating jurisdiction for a period of 24 months after March 30, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Community Planning and Development, Department of Housing and Urban Development, 451 Seventh Street SW, Room 7160, Washington, DC 20410, telephone (202) 708-2684.

• Regulation: 24 CFR 92.222(b)(1).

Project/Activity: Projects located in the declared-disaster areas (see FEMA-DR-4697-MS).

Nature of Requirement: Section 220(a) of NAHA (42 U.S.C. 12750(a)) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and 92.222(b) also permit HUD to reduce this matching requirement for a participating jurisdiction located in a declared-disaster area for any funds drawn from a participating jurisdiction's HOME Investment Trust Fund by up to 100 percent during any part of a fiscal year impacted by the disaster. However, 92.222(b)(1) imposes certain conditions in granting the reduction to the matching requirement which HUD has determined there is sufficient good cause to waive. Waiving the conditions required to reduce the match requirement for the participating jurisdiction by 100 percent for FY 2023 and FY 2024 will eliminate administrative burden on affected participating jurisdictions and the need for the participating jurisdiction to identify match for HOME projects related to the damage caused by the disaster.

Granted By: Marion McFadden, Principal Deputy Assistant Secretary for Community Planning and Development.

Date Granted: March 30, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022 through September 30, 2024. The waiver also applies to State-funded HOME projects located in declared-disaster areas.

Contact: Virginia Sardone, Director, Office of Affordable Housing Programs, Community Planning and Development, Department of Housing and Urban Development, 451 Seventh Street SW, Room 7160, Washington, DC 20410, telephone (202) 708-2684.

• Regulation: 24 CFR 92.251.

Project/Activity: Projects located in the declared-disaster areas (see FEMA-DR-4697-MS).

Nature of Requirement: This provision requires that housing assisted with HOME funds meet property standards based on the activity undertaken, i.e., acquisition of housing including through homebuyer assistance, and state and local standards and codes or model codes for rehabilitation and new construction. Property standard requirements are waived for repair of properties damaged by the disaster. Units must meet State and local health and safety codes. The lead housing safety regulations established in 24 CFR part 35 are not waived. Also, accessibility requirements at 24 CFR 92.251(a)(2)(i) are not waived.

Granted By: Marion McFadden, Principal Deputy Assistant Secretary for Community Planning and Development.

Date Granted: March 30, 2023.

Reason Waived: This waiver is required to enable the participating jurisdiction to meet the critical housing needs of families whose housing was damaged and families who were displaced by the disaster.

Applicability: This waiver applies only to housing units located in the declared-disaster areas which were damaged by the disaster and to which HOME funds are committed within two years of March 30, 2023.

Contact: Virginia Sardone, Director, Office of Affordable Housing Programs, Community Planning and Development, Department of Housing and Urban Development, 451 Seventh Street SW, Room 7160, Washington, DC 20410, telephone (202) 708-2684.

• Regulation: 24 CFR 93.151(c).

Project/Activity: Projects located in the declared-disaster areas (see FEMA-DR-4697-MS).

Nature of Requirement: This section of the HTF regulation requires initial income determinations for HTF beneficiaries by examining source documents covering the most recent two months. Many families whose homes were destroyed or damaged by the disaster will not have any documentation of income and will not be able to qualify for HTF assistance if the requirement remains effective.

Granted By: Marion McFadden, Principal Deputy Assistant Secretary for Community Planning and Development.

Date Granted: March 30, 2023.

Reason Waived: This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from March 30, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Community Planning and Development, Department of Housing and Urban Development, 451 Seventh Street SW, Room 7160, Washington, DC 20410, telephone (202) 708-2684.

• Regulation: 24 CFR 91.105(c)(2) and (k); 24 CFR 91.115(c)(2), and (i); and 24 CFR 91.401.

Project/Activity: The State of California and any HUD Community Planning and Development (CPD) grantee located in the counties included in the declared-disaster area (see DR-4683-CA) seeking to expedite action in response to severe winter storms, flooding, landslides, and mudslides, upon notification to the Community Planning and Development Director in its respective HUD Field Office. This authority is in effect for grantees in the areas covered by the major disaster declaration under title IV of the Robert T. Stafford Disaster Relief and Emergency Assistance Act (Stafford Act), DR-4683-CA, dated January 14, 2023, as may be amended (the “California declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: February 9, 2023.

Reason Waived: Several CPD grantees were affected by severe winter storms that hit California beginning December 27, 2022. As a result of substantial property loss and destruction, many individuals and families residing in the California declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of California and any HUD Community Planning and Development (CPD) grantee located in the counties included in the California declared-disaster areas (see DR-4683-CA) seeking to expedite action in response to severe winter storms, flooding, landslides, and mudslides, upon notification to the Community Planning and Development Director in its respective HUD Field Office. This authority is in effect for grantees within the California declared-disaster areas and is limited to facilitating preparation of substantial amendments to FY 2022 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: February 9, 2023.

Reason Waived: As stated above, several CPD grantees were affected by severe winter storms that hit California beginning December 27, 2022. As a result of substantial property loss and destruction, many individuals and families residing in the California declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with California severe winter storms, flooding, landslides, and mudslides.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: February 9, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe winter storms, flooding, landslides, and mudslides. The waiver will allow CDBG grantees, including grantees providing assistance to evacuees outside the California declared-disaster areas, to pay for the basic daily needs of individuals and families affected by the severe winter storms, flooding, landslides, and mudslides on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115 (c)(2), and (i); and 24 CFR 91.401.

Project/Activity: The State of Alabama and any HUD Community Planning and Development (CPD) grantee located in the counties included in the declared-disaster area (see DR-4684-AL) seeking to expedite action in response to severe winter storms, straight-line winds, and tornadoes, upon notification to the Community Planning and Development Director in its respective HUD Field Office. This authority is in effect for grantees in the areas covered by the major disaster declaration under title IV of the Robert T. Stafford Disaster Relief and Emergency Assistance Act (Stafford Act), DR-4684-AL, dated January 15, 2023, as may be amended (the “Alabama declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: February 9, 2023.

Reason Waived: Several CPD grantees were affected by severe winter storms, straight-line winds, and tornadoes that hit Alabama on January 12, 2023. As a result of substantial property loss and destruction, many individuals and families residing in the Alabama declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of Alabama and any HUD Community Planning and Development (CPD) grantee located in the counties included in the Alabama declared-disaster areas (see DR-4684-AL) seeking to expedite action in response to severe winter storms, straight-line winds, and tornadoes, upon notification to the Community Planning and Development Director in its respective HUD Field Office. This authority is in effect for grantees within the Alabama declared-disaster areas and is limited to facilitating preparation of substantial amendments to FY 2022 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: February 9, 2023.

Reason Waived: As stated above, several CPD grantees were affected by severe winter storms, straight-line winds, and tornadoes that hit Alabama on January 12, 2023. As a result of substantial property loss and destruction, many individuals and families residing in the Alabama declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Alabama severe winter storms, straight-line winds, and tornadoes.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: February 9, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe winter storms, straight-line winds, and tornadoes. The waiver will allow CDBG grantees, including grantees providing assistance to evacuees outside the Alabama declared-disaster areas, to pay for the basic daily needs of individuals and families affected by the severe winter storms, straight-line winds, and tornadoes on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115 (c)(2), and (i); and 24 CFR 91.401.

Project/Activity: The State of Mississippi and any HUD Community Planning and Development (CPD) grantee located in the counties included in the declared-disaster area (see DR-4697-MS) seeking to expedite action in response to severe winter storms, straight-line winds, and tornadoes, upon notification to the Community Planning and Development Director in its respective HUD Field Office. This authority is in effect for grantees in the areas covered by the major disaster declaration under title IV of the Robert T. Stafford Disaster Relief and Emergency Assistance Act (Stafford Act), DR-4697-MS, dated March 26, 2023, as may be amended (the “Mississippi declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: March 30, 2023.

Reason Waived: Several CPD grantees were affected by severe winter storms, straight-line winds, and tornadoes that hit Mississippi on March 24-25, 2023. As a result of substantial property loss and destruction, many individuals and families residing in the Mississippi declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of Mississippi and any HUD Community Planning and Development (CPD) grantee located in the counties included in the Mississippi declared-disaster areas (see DR-4697-MS) seeking to expedite action in response to severe winter storms, straight-line winds, and tornadoes, upon notification to the Community Planning and Development Director in its respective HUD Field Office. This authority is in effect for grantees within the Mississippi declared-disaster areas and is limited to facilitating preparation of substantial amendments to FY 2022 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: March 30, 2023.

Reason Waived: As stated above, several CPD grantees were affected by severe winter storms, straight-line winds, and tornadoes that hit Mississippi on March 24-25, 2023. As a result of substantial property loss and destruction, many individuals and families residing in the Mississippi declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Mississippi severe winter storms, straight-line winds, and tornadoes.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: March 30, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe winter storms, straight-line winds, and tornadoes. The waiver will allow CDBG grantees, including grantees providing assistance to evacuees outside the Mississippi declared-disaster areas, to pay for the basic daily needs of individuals and families affected by the severe winter storms, straight-line winds, and tornadoes on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Community Planning and Development, Department of Housing and Urban Development, 451 Seventh Street SW, Room 7282, Washington, DC 20410, telephone (202) 402-4211.

II. Regulatory Waivers Granted by the Office of Housing—Federal Housing Administration (FHA)

For further information about the following regulatory waivers, please see the name of the contact person that immediately follows the description of the waiver granted.

• Regulation: 24 CFR 200.73(c), Property Development, 2023.

Project/Activity: Wasmver Apartments, Mount Vernon, Ohio, Project No. 043-11318.

Nature of Requirement: 24 CFR 200.73(c). (c) The improvements shall constitute a single project. Not less than five rental dwelling units or personal care units, 20 medical care beds, or 50 manufactured home pads, shall be on one site, except that such limitations do not apply to group practice facilities. However, Chapter 3, Section 3.1.30 of the MAP Guide permits a project with two or more noncontiguous parcels of land when the parcels comprise one marketable, manageable real estate entity, provided each site contains at least five (5) rental dwelling units.

The lender, Orix Real Estate Capital, LLC, has applied for mortgage insurance under the Section 223(f) program to refinance the project, Wasmver Apartments, with moderate renovation of approximately $95,261 ($7,216 per unit). The property is in Knox County in Mount Vernon, Ohio and is comprised of thirteen (13) affordable units within three (3) buildings located on two (2) noncontiguous sites approximately ¾ miles apart. One site has two (2) of the three (3) buildings with five (5) units each, but the other site has one (1) building with only three (3) units.

Granted By: Julia R. Gordon, Assistant Secretary Office of Housing-Federal Housing Administration.

Date Granted: February 21, 2023.

Reason Waived: The project was originally approved and constructed under the Section 202 program as one project, and the two (2) sites have been operated as one marketable and manageable real estate entity with management and operations under one management office for the past 30 years. The project has historic occupancy of 95% annually. The existing Regulatory Agreement on the project restricts tenancy to seniors aged 62+ and mobility impaired residents. The project is 100% Project-Based Section 8 rental assistance under a 20-year HAP Contract (which expires on 8/31/2036) and therefore meets HUD's requirements for flexibility for scattered sites (See, MAP Guide, Chapter 3, Section 3.1.30.C.7). The waiver will meet HUD's goal of preserving and maintaining affordable rental housing for low-income families.

Contact: Willie Fobbs III, Director, Office of Multifamily Production, HTD, Department of Housing and Urban Development, 451 Seventh Street SW, Room 6134, Washington, DC 20410, telephone (202) 402-6257.

• Regulation: 24 CFR 200.73(c).

Project/Activity: Talmage-Oakland Portfolio, Minneapolis, Minnesota, Project No. 092-35886.

Nature of Requirement: 24 CFR 200.73(c). (c) The improvements shall constitute a single project. Not less than five rental dwelling units or personal care units, 20 medical care beds, or 50 manufactured home pads, shall be on one site, except that such limitations do not apply to group practice facilities. However, Chapter 3, Section 3.1.30 of the MAP Guide permits a project with two or more contiguous parcels of land when the parcels comprise one marketable, manageable real estate entity, provided each site contains at least five (5) units.

The lender, Colliers Mortgage, LLC, proposes to finance the Talmage-Oakland Portfolio project with a loan insured pursuant to the Section 221(d)(4) Substantial Rehabilitation program to finance much needed repairs and physical improvements of the project. The project is in Minneapolis, Minnesota and is comprised of 57 total affordable units. The subject property, comprised of 16 buildings, is located on 13 parcels, which are clustered on five (5) non-contiguous sites. Four (4) of the 13 parcels have only two (2) to four (4) units. This project is 100% Section 8, and will be covered by a single Low-Income Housing Tax Credit Land Use Restrictive Agreement (LIHTCLURA) restricting the units to residents earning 60% Area Median Income (AMI).

Granted By: Julia R. Gordon, Assistant Secretary Office of Housing-Federal Housing Administration.

Date Granted: February 27, 2023.

Reason Waived: Colliers Mortgage, LLC, submitted application for mortgage insurance under the Section 221(d)(4) Substantial Rehabilitation program to finance the project's, Talmage-Oakland Portfolio, approximately $7,410,000 ($130,000 per unit) planned repairs. The property will be owned and managed by a non-profit organization that has developed and owned over 50 properties with more than 4,500 affordable units. The non-profit organization also has extensive experience with HUD and has previously completed multiple in-place rehabilitation through FHA loans. As a 100% Section 8 project, it meets HUD's requirements for flexibility for scattered sites (See, MAP Guide, Chapter 3, Section 3.1.30.C.7). The FHA transaction will address much-needed repairs and replacements that will help preserve this affordable housing for the community.

Contact: Willie Fobbs III, Director, Office of Multifamily Production, HTD, Office of Housing, Department of Housing and Urban Development, 451 Seventh Street SW, Room 6134, Washington, DC 20410, telephone (202) 402-6257.

• Regulation: 24 CFR 206.113 Late charge and interest.

Project/Activity: Temporary, Partial Waiver of required late charges and interest for past due mortgage insurance premiums (MIP).

Nature of Requirement: 24 CFR 206.113 Late Charge and Interest, under Mortgage Insurance Premiums under Subpart B—Eligibility; Endorsement of 24 CFR part 206 Home Equity Conversion Mortgage Insurance, stipulates initial MIP remitted to the Commissioner more than five days after the payment date in § 206.111(a) and monthly MIP remitted to the Commissioner more than five days after the payment date in § 206.111(b) shall include a late charge of four percent of the amount owed. 24 CFR 206.113(b) also requires mortgagees pay interest on any initial MIP remitted to the Commissioner more than 20 days after closing, and interest on any monthly MIP remitted to the Commissioner more than five days after the payment date prescribed in § 206.111(b).

Granted By: Julia R. Gordon, Secretary for Housing—Federal Housing Commissioner.

Date Granted: January 10, 2023.

Reason Waived: Reverse Mortgage Funding LLC (RMF) filed for Chapter 11 bankruptcy on November 30, 2022 and did not provide for timely payment of their December 2022 Mortgage Insurance Premium (MIP) obligation, resulting in late charges and interest being assessed. This partial waiver of required late charges and interest for past due MIP was issued for FHA-approved mortgagees accepting transfer of those Home Equity Conversion Mortgages (HECMs) for which RMF failed to timely pay MIP to the Federal Housing Administration, resulting in the accrual of late charges and interest. Without this waiver, HECM servicers of the RMF portfolio would not have been able to submit claims and thereby would have increased the instability of the HECM program that was made worse through the RMF bankruptcy. The waiver relinquished the requirement for RMF Transferees to pay December 2022 late charges and interest for late payment of MIP in December for RMF HECMs.

Contact: Graham Mayfield, Acting Director, Office of Single Family Asset Management, Office of Housing, Department of Housing and Urban Development, 451 Seventh Street SW, Room 9172, Washington, DC 20410, telephone (202) 768-2838 or graham.b.mayfield@hud.gov.

• Regulation: 24 CFR 214.300(a)(3).

Project/Activity: The renewal of this partial waiver continues to provide temporary removal of the requirement that housing counseling agencies participating in HUD's Housing Counseling Program provide in-person housing counseling services to clients that prefer this format, but still allow housing counseling agencies to utilize alternative methods of providing counseling to clients. The renewal of this partial waiver will be in effect through December 31, 2023.

Nature of Requirement: 24 CFR 214.3009(a)(3) requires that all agencies participating in HUD's Housing Counseling Program that provide services directly to clients must provide in person counseling to clients that prefer this format.

Granted By: Julia Gordon, Assistant Secretary for Housing/Federal Housing Commissioner.

Date Granted: March 8, 2023.

Reason Waived: The renewal of this partial waiver is required because the Department recognizes that there continues to be a demand for housing counseling services but clients and counselors may remain hesitant to provide in-person counseling as a result of continued concerns related to COVID-19, Respiratory Syncytial Virus (RSV), and increasing rates of seasonal influenza. This renewal of this partial waiver allows participating agencies to provide continuous services in a format other than in-person without violating the requirements of 24 CFR 214.300(a)(3).

Contact: David Valdez, Office of Housing Counseling, Office of Housing, Department of Housing and Urban Development, 451 Seventh Street SW, Room 550, Washington, DC 20410, telephone (713) 718-3178.

III. Regulatory Waivers Granted by the Office of Public and Indian Housing

• For further information about the following regulatory waivers, please see the name of the contact person that immediately follows the description of the waiver granted.

• Regulation: 24 CFR 5.801(d)(1) and 24 CFR 902.62.

Project/Activity: Housing Authority of the City of Frederick (MD003).

Nature of Requirement: The regulation establishes certain reporting compliance dates. The audited financial statements are required to be submitted to the Real Estate Assessment Center (REAC) no later than nine months after the housing authority's (HA) fiscal year end FYE March 31, 2022, in accordance with the Single Audit Act and OMB Circular A-133.

Granted By: Dominique Blom, General Deputy Assistant Secretary for Public and Indian Housing.

Date Granted: March 17, 2023.

Reason Waived: The Housing Authority of the City of Frederick provided the requested financial information to its auditor in preparation for its audit. However, on November 2, 2022, the audit firm notified the Housing Authority (HA) it could not begin the audit until mid-December due to previous extensions of audit due dates during the COVID-19 pandemic. The HA believes this is not adequate time to complete its audit by the December 31, 2022, due date. Pursuant to 24 CFR 5.110, the request to extend the submission due date and waive 24 CFR 5.801(d)(1) and 24 CFR 902.62 (a)(3) is approved, as the reason provided is considered good cause for a waiver. Therefore, the HA is granted an additional ninety days from the due date of December 31, 2022. The HA has until March 31, 2023, to complete and submit its FYE March 31, 2022, audited financial information to the Department without receiving an LPF.

Contact: Lara Philbert, Housing Programs Specialist, Office of Public and Indian Housing, Department of Housing and Urban Development, 451 Seventh Street SW, Washington, DC 20410, telephone (202) 475-8930.

• Regulation: 24 CFR 902.33 and 24 CFR 902.64.

Project/Activity: Crisfield Housing Authority (MD009).

Nature of Requirement: The regulation establishes certain reporting compliance dates. The audited financial statements are required to be submitted to the Real Estate Assessment Center (REAC) no later than nine months after the housing authority's (HA) fiscal year end FYE March 31, 2022, in accordance with the Single Audit Act and OMB Circular A-133.

Granted By: Dominique Blom, General Deputy Assistant Secretary for Public and Indian Housing.

Date Granted: March 17, 2023.

Reason Waived: The HA contends it could not meet the reporting deadline due to circumstances beyond its control. As a result of its accountant's retirement at the end of March 2022, the HA's staff needed help providing timely financial information to the auditor. Due to the CARES Act extension, the FY2021 audit was extended, and the HA and its auditor worked together to complete FY2021 and begin FY22. Subsequently, the audit firm withdrew its engagement on July 18, 2022. The HA immediately contacted several firms to procure audit services; however, with the COVID-19 pandemic and a significant backlog, most auditors were unwilling to take on the HA's FY21 and FY22 audits and complete them on time. The HA contends it has found an audit firm to do the work but will need six months to complete it. Under 24 CFR 5.110, there is good cause to waive the reporting compliance deadlines under 24 CFR 902.33 and 24 CFR 902.64. The circumstance preventing the Agency from submitting its audited financial information is acceptable. Therefore, Crisfield Housing Authority is granted an additional six months from the extended due date of December 31, 2022. The HA has until June 30, 2023, to complete and submit its FYE March 31, 2022, audited financial information to the Department.

Contact: Lara Philbert, Housing Programs Specialist, Office of Public and Indian Housing, Department of Housing and Urban Development, 451 Seventh Street SW, Washington, DC 20410, telephone (202) 475-8930.

• Regulation: 24 CFR 905.300(b)(1).

Project/Activity: Woonsocket Housing Authority/ESSG.

Nature of Requirement: The Capital Fund Regulations at 24 CFR 905.300 require certain annual submissions by the public housing authority (PHA). One of the requirements is the submission of the CFP 5-Year Action Plan which describes the capital improvements to be undertaken within the 5-year period. The 5-Year Action Plan allows the Department of Housing and Urban Development (HUD) to monitor the PHA's use of Capital Funds ensuring that Capital Funds are not used for ineligible purposes and that the PHA is efficiently using these funds.

Granted By: Dominique Blom, General Deputy Assistant Secretary for Public and Indian Housing.

Date Granted: March 6, 2023.

Reason Waived: WHA received a Fiscal Year 2021 Emergency Safety and Security grant (ESSG) for the purchase of security cameras. WHA did not include security cameras in the CFP 5-Year Action Plan in the Energy and Performance Information Center (EPIC). Consequently, WHA was notified by HUD that the grant would be recaptured. WHA's letter identified extenuating circumstance such as the termination of the previous executive director, who executed the CFP grant amendment but did not amend the 5-Year Action Plan. However, WHA correctly completed the tasks required to obligate the grant including signing and uploading the Annual Contributions Contract Amendment to EPIC and, on August 18, 2022, the WHA Board of Commissioners unanimously approved the award of the ESSG contract in an amount not-to-exceed the approved grant amount of $244,188 to Sentrillion, a responsive bidder in the best interest of the PHA.

Contact: David Fleischman, Housing Programs Specialist, Office of Public and Indian Housing, Department of Housing and Urban Development, 451 Seventh Street SW, Washington, DC 20410, telephone (202) 402-2071.

• Regulation: 24 CFR 982.161(a)(1).

Project/Activity: The Klamath Housing Authority (KHA) is requesting a waiver of 24 CFR 982.161(a)(1), which requires a PHA not to enter into any contract or arrangement in connection with the HCV program in which any present or former member or officer of the PHA has interest, direct or indirect.

Nature of Requirement: The regulation at 24 CFR 982.161(c), and the HAP contract, allows the conflict of interest to be waived by the Department of Housing and Urban Development (HUD) for good cause.

Granted By: Dominique Blom, General Deputy Assistant Secretary for Public and Indian Housing.

Date Granted: January 24, 2023.

Reason Waived: Based on the circumstances of this request, HUD finds that there is good cause to waive, and pursuant to 24 CFR 5.110, HUD hereby waives 24 CFR 982.161(a) to allow the KHA to continue its existing HAP contract with Stephanie Hirche, for the unit specified in your waiver request.

Contact: Kristen Arnold, Housing Programs Specialist, Office of Public and Indian Housing, Department of Housing and Urban Development, 451 Seventh Street SW, Washington, DC 20410, telephone (971) 222-2667.

• Regulation: 24 CFR 982.161(a)(1).

Project/Activity: The waiver would allow AHA to enter into an employment contract with Mr. Julio Guridy as Executive Director within 12 months of his tenure as a member of the Board of Directors.

Nature of Requirement: Public Housing conflict of interest waiver requests are reviewed and considered under Section 19(A)(1) of the ACC, which prohibits a Public Housing Agency (PHA) from entering into a contract, subcontract, or arrangement in connection with the administration of its Public Housing program where any present or former member or officer of the governing body has an interest, direct or indirect, during his or her tenure or for one year thereafter.

Granted By: Dominique Blom, General Deputy Assistant Secretary for Public and Indian Housing.

Date Granted: February 6, 2023.

Reason Waived: The Department has considered the information provided in support of this request and determined that good cause does exist to grant a waiver of Section 19(A)(1)(i) of the ACC and CFR 982.161(a), based on AHA's search committee efforts and Mr. Guridy's qualifications compared to the recommended candidates.

Contact: Erick Wood, Housing Programs Specialist, Office of Public and Indian Housing, Department of Housing and Urban Development, 451 Seventh Street SW, Washington, DC 20410, telephone (202) 708-0614.

• Regulation: 24 CFR 982.161(a).

Project/Activity: The request states Patrick Patterson was appointed to the Quorum Court as of January 1, 2021 and owns a property located at 465 N Monroe St. that is currently occupied by an HCV participant with a disability. The Quorum Court acts as Clay County Housing Department's (CCHD) board of directors, and CCHD seeks the waiver so that the HCV participant may continue to reside in the unit owned by Patrick Patterson and avoid the hardship and expense of moving. The request also notes the shortage of rental units available in the Clay County Arkansas area due to its small size (population 14,350) and rural location.

Nature of Requirement: Any public official, member of a governing body, or State or local legislators, who exercises functions or responsibilities with respect to the programs, may not have any direct or indirect interest in the Housing Assistance Payments (HAP) contract or in any benefits or payments under the contract during tenure or one year thereafter.

Granted By: Dominique Blom, General Deputy Assistant Secretary for Public and Indian Housing.

Date Granted: January 31, 2023.

Contact: Kristen Arnold, Housing Programs Specialist, Office of Public and Indian Housing, Department of Housing and Urban Development, 451 Seventh Street SW, Washington, DC 20410, telephone (971) 222-2667.

• Regulation: 24 CFR 982.161(a)(1).

Project/Activity: 24 CFR 982.161(a)(1), which states, in part, that any present or former member or officer of the public housing agency (PHA) (except a participant commissioner) may not have any direct or indirect interest in the housing assistance program (HAP) contract or in any benefits or payments under the contract during tenure or one year thereafter. The regulation at 24 CFR 982.161(c), and the HAP contract, allows the conflict of interest to be waived by the Department of Housing and Urban Development (HUD) for good cause.

Nature of Requirement: Under the tenant-based framework, such individualized analysis is made possible because tenant-based HAP contracts cover a single unit, occupied by a single family. This programmatic characteristic also minimizes the potential impact a conflict of interest may have on the program. Because Ms. Furneaux holds a position as a board member, if the regulation is not waived, Ms. Micknick would be required to move from the unit they have resided in for the past five years in order to utilize HCV assistance.

Granted By: Dominique Blom, General Deputy Assistant Secretary for Public and Indian Housing.

Date Granted: February 13, 2023.

Reason Waived: Based on the circumstances of this request, HUD finds that there is good cause to waive, and pursuant to 24 CFR 5.110, HUD hereby waives, 24 CFR 982.161(a), to allow WCHRA to enter into a HAP contract with by Ms. Furneaux, on behalf of Ms. Micknick for the unit specified in your waiver request. Ms. Furneaux must continue to abstain themselves from all matters concerning the HAP contract in question.

Contact: Kristen Arnold, Housing Programs Specialist, Office of Public and Indian Housing, Department of Housing and Urban Development, 451 Seventh Street SW, Washington, DC 20410, telephone (971) 222-2667.

• Regulation: 24 CFR 982.161(a) and 24 CFR 982.161(c).

Project/Activity: RPHA's request states that Daniel Pedri was elected to the Rock Springs City Council, which acts as the RPHA's board, and officially started the position on January 2, 2023. Mr. Pedri is employed by Pedri Investments LLC which owns a property that is currently occupied by an elderly and extremely low-income HCV participant with a disability. Pedri Investments LLC is owned by Daniel Pedri's father, also a “covered individual”. Your agency seeks the waiver so that the HCV participant may continue to reside in the unit owned by Pedri Investments LLC and avoid the hardship and expense of moving. The request also notes the shortage of rental units available in the Rock Springs City, Wyoming area due to its small size (population 23,036) and rural location.

Nature of Requirement: Housing Choice Voucher (HCV) regulations at 24 CFR 982.161(a), which states, in part, that any public official, member of a governing body, or State or local legislators, who exercises functions or responsibilities with respect to the programs, may not have any direct or indirect interest in the Housing Assistance Payments (HAP) contract or in any benefits or payments under the contract during tenure or one year thereafter. The regulation at 24 CFR 982.161(c), and the HAP contract, allows the conflict of interest to be waived by the Department of Housing and Urban Development (HUD) for good cause.

Granted By: Dominique Blom, General Deputy Assistant Secretary for Public and Indian Housing.

Date Granted: March 2, 2023.

Reason Waived: While it has been the Department's long-standing position that the individual's intent to recuse himself or herself from program determinations is not by itself good cause to waive the conflict of interest provision, HUD has found good cause for this waiver beyond Daniel Pedri's recusal due to the hardship on the existing assisted tenant and the lack of available rental housing in RPHA's jurisdiction. Nonetheless, the Department finds that Daniel Pedri's recusal is an important safeguard to the integrity of administration of the RPHA's HAP contracts, and an essential factor in HUD's consideration of good cause.

Contact: Kristen Arnold, Housing Programs Specialist, Office of Public and Indian Housing, Department of Housing and Urban Development, 451 Seventh Street SW, Washington, DC 20410, telephone (971) 222-2667.

• Regulation: 24 CFR 982.207(b)(3) and 24 CFR 983.251(d).

Project/Activity: Housing Authority of Macon-Bibb County (GA006—MHA) requests to waive 24 CFR 982.207(b)(3), which prohibits preferences for persons with specific disabilities for the Housing Choice Voucher (HCV) program, and 24 CFR 983.251(d), which prohibits preferences for persons with specific disabilities for Project-Based Voucher (PBV) assistance.

Nature of Requirement: Under a 2010 Settlement Agreement between the U.S. Department of Justice (DOJ) and the State of Georgia, Georgia must transition individuals living with serious and persistent mental illness (SPMI) and developmental disabilities into integrated, community-based settings while making voluntary supportive services available to those individuals. To facilitate continued compliance with the Settlement Agreement, MHA requests extension of a waiver, most recently approved by HUD on March 9, 2020, that allows for MHA to establish alternate tenant selection preferences. The extension approved the waiver for an additional three years.

Granted By: Dominique Blom, General Deputy Assistant Secretary for Public and Indian Housing.

Date Granted: January 24, 2023.

Reason Waived: HUD has determined that there is good cause to waive program regulations of HCV and PBV tenant selection preferences to provide an admissions preference for persons with SPMI and developmental disabilities. HUD hereby waives 24 CFR 982.207(b)(3) and 24 CFR 983.251(d), pursuant to the waiver authority provided to HUD at 24 CFR 5.110.

Contact: Emily Warren, Housing Programs Specialist, Office of Public and Indian Housing, Department of Housing and Urban Development, 451 Seventh Street SW, Washington, DC 20410, telephone (971) 708-0614.

• Regulation: 24 CFR 982.503(c)(1), CFR 982.503(c)(2), 24 CFR.982.503(c)(3), 24 CFR 982.503(c)(4)(ii).

Project/Activity: The PHA stated that the rents in the area have dramatically increased in certain areas and are expected to continue an upward trajectory. Additionally, the PHA is participating in the Housing Choice Voucher (HCV) Mobility Demonstration, which requires that participating PHAs adopt adequate payment standards in opportunity areas. This request updates a previously approved request from March 2022 with updated data and revised payment standards. The MDHA has determined that even at 110 percent of the fair market rent (FMR), payment standards are not adequate, or high enough, in opportunity areas.

Nature of Requirement: 24 CFR.982.503(c)(3), which is for payment standards above 120 percent of the FMR. While the MDHA also requested a waiver of CFR 982.503(c)(2) for payment standards between 110 percent and 120 percent of the FMR, HUD has determined that this waiver is not necessary as all the requested exception payment standards under this request exceed 120 percent of FMR. Finally, the MDHA also requests a waiver of 24 CFR 982.503(c)(4)(ii) which requires that the PHA have previously adopted an exception payment standard for six months prior. HUD has also determined that this waiver is not necessary, since it has been more than six months since HUD approved, and the MDHA adopted, the previous exception payment standards request in March of 2022.

Granted By: Dominique Blom, General Deputy Assistant Secretary for Public and Indian Housing.

Date Granted: March 2, 2023.

Reason Waived: In order to achieve the goals of the Community Choice Demonstration, and to provide access to low-poverty neighborhoods for families in their voucher program, the MDHA needs to establish exception payment standards over 120 percent of the FMR, where justified by statistically representative housing survey data. Therefore, HUD has determined that there is good cause to waive 24 CFR 982.503(c)(3). Pursuant to the waiver authority provided at 24 CFR 5.110, I hereby waive 24 CFR 982.503(c)(3). Since the PHA has demonstrated they meet all of the regulatory requirements at 24 CFR 982.503(c) for approval of an exception payment standard above 120 percent of the FMR, HUD approves the MDHA's request for an exception payment standard. The PHA may use this exception payment standard in place of the FY23 published FMRs. The PHA may submit a new exception payment standard request for HUD's consideration for the FY24 FMRs.

Contact: Brendan Goodwin, Housing Programs Specialist, Office of Public and Indian Housing, Department of Housing and Urban Development, 451 Seventh Street SW, Washington, DC 20410, telephone (202) 708-0614.

• Regulation: 24 CFR 982.517 and 24 CFR 983.301(f)(2)(ii)—Waiver Request for PBV Utility Allowance Setting.

Project/Activity: Pursuant to 24 CFR 5.110 and Notice PIH 2018-16, the Hawaii Office of Housing and Community Development (OHCD) has requested a waiver of these program regulations to establish a site-specific utility allowance for Mohouli Senior Residences, Phase 3, where OHCD will have 92 PBV units.

Nature of Requirement: For the Department to consider such a waiver, the public housing agency (PHA) should submit: (a) an analysis of utility rates for the community; (b) an estimate of energy consumption that will take place at the newly constructed site; and (c) a proposed alternative methodology for calculating utility allowances on an ongoing basis. The PHA should demonstrate that the utility allowance provided under the HCV program would either create an undue cost on families or discourage conservation and efficient use of housing assistance payments (HAP).

Granted By: Dominique Blom, General Deputy Assistant Secretary for Public and Indian Housing.

Date Granted: January 23, 2023.

Reason Waived: The information submitted to HUD by OHCD supports its request. The OHCD has submitted an analysis of utility rates for the community and an estimate of the energy consumption that will take place at the newly constructed site. Due to the energy efficient systems being built at the Mohouli Senior Residences, Phase 3, the community consumption estimates are significantly higher than the consumption expected at the site. As such, the standard HCV utility allowance would be excessive.

Contact: Nathaniel Johnson, Housing Programs Specialist, Office of Public and Indian Housing, Department of Housing and Urban Development, 451 Seventh Street SW, Washington, DC 20410, telephone (202) 402-5156.

• Regulation: 24 CFR 983.51(b).

Project/Activity: The HACOO is seeking a HUD waiver to allow it to non-competitively award Project-Based Vouchers (PBVs) to the Marfa Housing Authority (MHA), a Public Housing-only PHA that was previously approved by the HUD Special Applications Center (SAC) to convert 74 public housing units to vouchers under a RAD/Section 18 blend transaction. The MHA plans to have all 74 vouchers to be administered as project-based by the HACOO, which the HUD San Antonio Office of Public Housing previously approved

Nature of Requirement: Requires a public housing agency (PHA) to award project-based vouchers (PBVs) through a competitive process or based on a previous competition. The request, dated November 23, 2022, seeks a waiver so that the HACOO can non-competitively award PBVs to the Marfa Housing Authority (MHA).

Granted By: Dominique Blom, General Deputy Assistant Secretary for Public and Indian Housing.

Date Granted: February 17, 2023.

Reason Waived: Pursuant to the waiver authority provided at 24 CFR 5.110, and considering the good cause presented due to HACOO's representations regarding the limited availability of affordable housing stock in the City of Marfa, HUD hereby waives 24 CFR 983.51(b) so that HACOO may select Public Housing Development TX318000001 for an award PBVs without following a competitive process.

Contact: Kristen Arnold, Housing Programs Specialist, Office of Public and Indian Housing, Department of Housing and Urban Development, 451 Seventh Street SW, Washington, DC 20410, telephone (971) 222-2667.

• Regulation: 24 CFR 983.51 (b)(2).

Project/Activity: LACDA is requesting a waiver of the federal regulation at 24 CFR 983.51 (b)(2) to allow the LACDA to continue committing Project-Based Veterans Affairs Supportive (VASH) vouchers noncompetitively to the U.S. Department of Veterans Affairs (VA) Campus development by accepting the Enhanced-Use Lease award by the VA as a valid prior competition without expiration.

Nature of Requirement: This regulation states that the Public Housing Authority (PHA) may select, without competition, a proposal for housing assisted under a federal, state, or local government housing assistance, community development, or supportive services program that required competitive selection of proposals (e.g., HOME, and units for which competitively awarded low-income housing tax credits (LIHTCs) have been provided), where the proposal has been selected in accordance with such program's competitive selection requirements within 3 years of the Project-Based Vouchers (PBV) proposal selection date, and the earlier competitively selected housing assistance proposal did not involve any consideration that the project would receive PBV assistance.

Granted By: Dominique Blom, General Deputy Assistant Secretary for Public and Indian Housing.

Date Granted: February 22, 2023.

Reason Waived: Pursuant to the waiver authority provided at 24 CFR 5.110, HUD has determined that there is good cause to waive, and HUD hereby waives, 24 CFR 983.51(b)(2) to allow the LACDA to continue committing Project-Based VASH vouchers noncompetitively to the VA Campus development by considering the Enhanced-Use Lease award by the VA as a valid prior competition through the end of calendar year 2023.

Contact: Nathaniel Johnson, Housing Programs Specialist, Office of Public and Indian Housing, Department of Housing and Urban Development, 451 Seventh Street SW, Washington, DC 20410, telephone (202) 402-5156.

• Regulation: 24 CFR 983.51(b).

Project/Activity: The District of Columbia Housing Authority (DCHA) selection of Friendship Terrace for project-based voucher (PBV) assistance without undergoing a competitive process or based on a previous competition.

Nature of Requirement: The regulation at 24 CFR 983.51(b) provides that the public housing agency (PHA) must select PBV proposals either through a competitive process or based on a competition for other assistance the project is receiving, provided the project was competitively selected for that other assistance within 3 years of the PBV proposal selection date and the competitively selected housing assistance proposal did not involve any consideration that the project would receive PBV assistance in the future.

Granted By: Dominique Blom, General Deputy Assistant Secretary for Public and Indian Housing.

Date Granted: March 27, 2023.

Reason Waived: The DCHA received an allocation of 140 enhanced vouchers as the result of a HUD Multifamily Housing conversion action under section 536 of the Preserving Affordable Housing for Senior Citizens and Families into the 21st Century Act (Pub. L. 106-74). Section 536 provides that any project that receives or has received assistance under the Flexible Subsidy Program and is the subject of a transaction under which the project is preserved as affordable housing (as determined by HUD) shall be considered eligible low-income housing under section 229 of the Low-Income Housing Preservation and Resident Homeownership Act of 1990 (LIHPRHA) for tenant-based enhanced voucher rental assistance. The owner and the DCHA are seeking to convert the tenant-based assistance to PBV assistance pursuant to Notice PIH 2013-27, under which families have voluntarily agreed to relinquish their enhanced voucher assistance for PBV assistance. The requested waiver is critical to preserving affordable housing in the Tenleytown neighborhood of Northwest Washington, DC, which has limited affordable housing. Without approval of this waiver request, the project will not be able to close, putting this much-needed affordable housing resource at-risk. Allowing the DCHA to select Friendship Terrace ensures that the transaction to preserve the property as affordable housing will be realized and this property will remain an affordable housing resource in the community.

Contact: Nathaniel Johnson, Housing Programs Specialist, Office of Public and Indian Housing, Department of Housing and Urban Development, 451 Seventh Street SW, Washington, DC 20410, telephone (202) 402-5156.

• Regulation: 24 CFR 983.53(d), 983.152(c), and 983.153(c).

Project/Activity: DHCD is seeking approval from HUD on behalf of its developer, Covenant Commonwealth Corporation (CCC), to permit CCC to proceed with necessary environmental remediation, demolition, and relocation work prior to entering into an Agreement to enter into a Housing Assistance Payment Contract (AHAP).

Nature of Requirement: As stated in the request, DHCD began a planning process to redevelop a public housing development located at 1185 River Street, 1191-1203 River Street, and 12 Central Avenue located in Boston, Massachusetts in the Hyde Park section of Boston over a period of time. To avoid the long-term displacement of impacted residents, the public housing units on site are scheduled to be demolished in phases. The developer is set to commence the development of 63 units, including eight that DHCD intends to cover by a PBV contract.

Granted By: Dominique Blom, General Deputy Assistant Secretary for Public and Indian Housing.

Date Granted: March 1, 2023.

Reason Waived: Pursuant to the waiver authority provided at 24 CFR 5.110 and considering the good cause presented, HUD hereby waives 24 CFR 983.53(d), 983.152(c), and 983.153(c) permitting CCC to begin the demolition remediation activities specified in the demolition services agreement, prior to entering an AHAP with DCHD. However, even with the granting of this waiver request, until an AHAP is executed with DHCD, no work beyond what has been identified in this request may be performed; and all activities must be performed in compliance with the same Federal requirements that would apply if an AHAP were in place, including Davis-Bacon prevailing wage requirements.

Contact: Nathaniel Johnson, Housing Programs Specialist, Office of Public and Indian Housing, Department of Housing and Urban Development, 451 Seventh Street SW, Washington, DC 20410, telephone (202) 402-5156.

• Regulation: 24 CFR 983.53(d) 983.152(c), and 983.153(c).

Project/Activity: FCRHA is seeking approval from the Department of Housing and Urban Development (HUD) on behalf of its developer, Arlington Partnership for Affordable Housing (APAH), to permit APAH to proceed with necessary environmental remediation, demolition, and utility relocation work prior to entering into an AHAP.

Nature of Requirement: 24 CFR 983.53(d) 983.152(c), and 983.153(c), which prohibit a public housing agency (PHA) from executing an Agreement to Enter into a Housing Assistance Payment (AHAP) contract and attaching Project-Based Voucher (PBV) assistance to units if construction or rehabilitation has commenced after proposal submission.

Granted By: Dominique Blom, General Deputy Assistant Secretary for Public and Indian Housing.

Date Granted: March 15, 2023.

Reason Waived: Due to the scale and schedule for this early utility work, the FCRHA is requesting a good cause waiver of the regulations at § § 983.53(d) 24 CFR 983.152(c) and 983.153(c) that will allow APAH to commence the utility relocation work after completion of the Environmental Review, but before completion of the Subsidy Layering Review (SLR) and execution of the AHAP. Allowing the utility relocation work to proceed before the AHAP is executed will allow for the completion of the new housing faster and before changes in the economy could render the phases unfinanceable, therefore prolonging the lack of affordable housing units within the community.

Contact: Nathaniel Johnson, Housing Programs Specialist, Office of Public and Indian Housing, Department of Housing and Urban Development, 451 Seventh Street SW, Washington, DC 20410, telephone (202) 402-5156.

• Regulation: 24 CFR 983.205(b).

Project/Activity: The context for THA's waiver request is a redevelopment effort involving the acquisition and renovation of an existing PBV project that will include a Rental Assistance Demonstration (RAD) PBV conversion of 96 public housing units. THA is requesting a waiver to allow a 20-year contract extension to be executed for the Belmont Phase III PBV HAP contract earlier than the regulations provide.

Nature of Requirement: This regulation states that extensions after the initial extension are allowed at the end of any extension term provided that, not more than 24 months prior to the expiration of the previous extension contract, the public housing agency (PHA) agrees to extend the term. The extension must be appropriate to continue to provide affordable housing for low-income families or to expand housing opportunities.

Granted By: Dominique Blom, General Deputy Assistant Secretary for Public and Indian Housing.

Date Granted: March 6, 2023.

Reason Waived: Consistent with PIH Notice 2017-21, THA could extend this contract until February 1, 2036, without any waiver. Please see Attachment G, Scenario 3 of the Notice. However, for a 20-year extension (which will run from February 2026 until February 2046) to be entered into prior to February 1, 2024, a waiver of 24 CFR 983.205(b) is required. The owners of Belmont Heights Phase III need this waiver because they are working with a lender and investor to refinance the development using tax-exempt bonds and Low-Income Housing Tax Credits. The refinancing is necessary to address physical needs at the property and to preserve long-term affordability. Ultimately, the waiver will facilitate the renovation and development of this important project.

Contact: Nathaniel Johnson, Housing Programs Specialist, Office of Public and Indian Housing, Department of Housing and Urban Development, 451 Seventh Street SW, Washington, DC 20410, telephone (202) 402-5156.

• Regulation: 24 CFR 985.101(a).

Project/Activity: FHA has been understaffed due to COVID-19 and recently hired a new Executive Director. FHA notes that these issues will impact its ability to compile the necessary data required to complete its SEMAP submission timely. Therefore the FHA needs an extension to allow time to collect the necessary data.

Nature of Requirement: This regulation states that a public housing agency (PHA) must submit the Department of Housing and Urban Development (HUD) required SEMAP certification form within 60 calendar days after the end of its fiscal year. The PHA's fiscal year ended on September 30, 2022; the SEMAP certification was due on or before November 29, 2022.

Granted By: Dominique Blom, General Deputy Assistant Secretary for Public and Indian Housing.

Date Granted: January 24, 2023.

Reason Waived: Due to these circumstances, HUD has determined, pursuant to the waiver authority provided at 24 CFR 5.110, that there is good cause to waive, and HUD hereby waives, 24 CFR 985.101(a) to permit the FHA to submit its SEMAP certification after the deadline for its fiscal year ending September 30, 2022.

Contact: Michelle Daniels, Housing Programs Specialist, Office of Public and Indian Housing, Department of Housing and Urban Development, 451 Seventh Street SW, Washington, DC 20410, telephone (202) 402-6051.

• Regulation: 24 CFR 985.101(a).

Project/Activity: The Housing Authority of the City of Perth Amboy requesting a waiver of the requirements of 24 CFR 985.101(a), requiring the SEMAP certification to be submitted within 60 calendar days after the end of their fiscal year, along with their justification for “good cause”.

Nature of Requirement: Title 24 CFR 985.101(a) states that a public housing agency (PHA) must submit the Department of Housing and Urban Development (HUD) required Section Eight Management Assessment Program (SEMAP) certification form within 60 calendar days after the end of its fiscal year. The PAHA's fiscal year ends on March 31, 2022, and its SEMAP certification was due on or before May 30, 2022.

Granted By: Dominique Blom, General Deputy Assistant Secretary for Public and Indian Housing.

Date Granted: February 22, 2023.

Reason Waived: Pursuant to the waiver authority provided at 24 CFR 5.110, that there is good cause to waive, HUD waives 24 CFR 985.101(a) to permit the PAHA to submit its SEMAP certification after the deadline for its fiscal year ending March 31, 2022.

Contact: Michelle Daniels, Housing Programs Specialist, Office of Public and Indian Housing, Department of Housing and Urban Development, 451 Seventh Street SW, Washington, DC 20410, telephone (202) 402-6051.

• Regulation: 24 CFR 985.101(a) and 24 CFR 985.105(a)(1).

Project/Activity: The regulations at CFR 985.101(a) provide that a public housing agency (PHA) must submit the Department of Housing and Urban Development (HUD) required Section Eight Management Assessment Program (SEMAP) certification form within 60 calendar days after the end of its fiscal year. The regulations at 24 CFR 985.105(a)(1) provide that HUD shall assess each PHA's performance under SEMAP annually and shall assign each PHA a SEMAP score and overall performance rating.

Nature of Requirement: The UCHA waiver request states that the disruption of COVID-19 and the impact that it had specifically on the agency justifies this waiver. UCHA states that completing inspections and briefings were difficult because of the COVID-19 pandemic. UCHA closed several times (for two weeks each occasion) during the pandemic, in addition to experiencing staff turnovers. The Executive Director retired in early 2021, due to his declining health, the inspector left in April 2022, and the Section Eight Program Director left without notice in September 2022. The UCHA is in rural Oregon and has struggled to recruit staff in general, especially experienced individuals. The UCHA received an overall rating score as High performer on its prior SEMAP certifications in 2019, Standard in 2018, and High in 2017.

Granted By: Dominique Blom, General Deputy Assistant Secretary for Public and Indian Housing.

Date Granted: March 15, 2023.

Reason Waived: Therefore, HUD has determined, pursuant to the waiver authority provided at 24 CFR 5.110, that there is good cause to waive, and I hereby waive, 24 CFR 985.101(a) to permit UCHA to submit its SEMAP certification after the deadline for its fiscal year ending December 31, 2022. The new submission deadline is May 1, 2023.

Contact: Michelle Daniels, Housing Programs Specialist, Office of Public and Indian Housing, Department of Housing and Urban Development, 451 Seventh Street SW, Washington, DC 20410, telephone 202-402-6051.

• Regulation: 24 CFR 990.145(b) Public housing dwelling units with approved vacancies.

Project/Activity: Regulatory and Administrative Requirement Waivers and Flexibilities Available to HUD Public Housing and Section 8 During CY 2022 and CY 2023 to Public Housing Agencies to Assist with Recovery and Relief Efforts on Behalf of Families Affected by Presidentially Declared Disasters.

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
City of Daytona Beach | 2/7/2023
Puerto Rico PHA | 1/13/2023

• Regulation: 24 CFR 5.801 Uniform Financial Reporting.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of San Juan | 1/5/2023
Municipality of Salinas | 1/24/2023
Municipality of Hormigueros | 1/24/2023
City of Daytona Beach | 2/7/2023
Lee County Housing Authority | 2/7/2023
Municipality of Gurabo | 2/16/2023
Puerto Rico PHA | 1/13/2023

• Regulation: 24 CFR 902 Public Housing Assessment.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
City of Daytona Beach | 2/7/2023

• Regulation: 24 CFR 905.322(b) Fiscal Closeout.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Hormigueros | 1/24/2023
Municipality of Cayey | 1/24/2023
Puerto Rico PHA | 1/13/2023

• Regulation: 24 CFR 905.314(b)-(c) (Cost and Other Limitations; Maximum Project Cost; TDC Limit).

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Puerto Rico PHA | 1/13/2023

• Regulation: 24 CFR 905.314(j) (Cost and Other Limitations; Types of Labor).

Project/Activity: FR-6301-N-01 Regulatory and Administrative Requirement Waivers and Flexibilities Available to HUD Public Housing and Section 8 During CY 2022 and CY 2023 to Public Housing Agencies to Assist with Recovery and Relief Efforts on Behalf of Families Affected by Presidentially Declared Disasters.

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410-5000, or email to PIH_Disaster_Relief@hud.gov.

PHA | Date
Puerto Rico PHA | 1/13/2023

• Regulation: 24 CFR 905.400(i)(5) Capital Fund Formula Need for Projects with Demo or Dispo.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh St. SW, Suite 3180, Washington, DC 20410, or email to PIH_Disaster_Relief@hud.gov.

PHA | Date
Puerto Rico PHA | 1/13/2023

• Regulation: 24 CFR 960.202(c)(1) Tenant Selection Policies.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Hormigueros | 1/24/2023
Municipality of Cayey | 1/24/2023
Puerto Rico PHA | 1/13/2023
Municipality of San Juan | 1/5/2023

• Regulation: 24 CFR 982.206(a)(2) Waiting List; Opening and Closing; Public Notice.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Cayey | 1/24/2023
Puerto Rico PHA | 1/13/2023
Municipality of Cidra | 1/5/2023
Municipality of Caguas | 1/5/2023
Municipality of Mayaguez | 1/5/2023
Municipality of Guaynabo | 1/5/2023
Municipality of Humacao | 1/24/2023
Municipality of Gurabo | 2/16/2023

• Regulation: 24 CFR 982.503(c) (HUD approval of exception payment standard amount).

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh St. SW, Suite 3180, Washington, DC 20410, or email to PIH_Disaster_Relief@hud.gov.

PHA | Date
Municipality of Cayey | 1/24/2023
Puerto Rico PHA | 1/13/2023
Municipality of Caguas | 1/5/2023
Municipality of Mayaguez | 1/5/2023
Municipality of Guaynabo | 1/5/2023
Municipality of Ponce | 1/5/2023
Municipality of San Juan | 1/5/2023
Municipality of Carolina | 1/5/2023
Municipality of Bayamon | 1/5/2023
City of Daytona Beach | 2/7/2023
Municipality of Trujillo Alto | 1/24/2023

• Regulation: 24 CFR 982.401(d) Housing Quality Standards; Space and Security.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Hormigueros | 1/24/2023
Municipality of Cayey | 1/24/2023
Puerto Rico PHA | 1/13/2023
Municipality of San Juan | 1/5/2023
Municipality of Humacao | 1/24/2023
Municipality of Gurabo | 2/16/2023

• Regulation: 24 CFR 982.633(a) Occupancy of Home.

Project/Activity: FR-6301-N-01 Regulatory and Administrative Requirement Waivers and Flexibilities Available to HUD Public Housing and Section 8 During CY 2022 and CY 2023 to Public Housing Agencies to Assist with Recovery and Relief Efforts on Behalf of Families Affected by Presidentially Declared Disasters.

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Cayey | 1/24/2023
Puerto Rico PHA | 1/13/2023
Municipality of Gurabo | 2/16/2023
Municipality of Humacao | 1/24/2023
Municipality of San Juan | 1/5/2023

• Regulation: 24 CFR 984.303(d) Contract of Participation: Contract Extension.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Cayey | 1/24/2023
Puerto Rico PHA | 1/13/2023
Municipality of San Juan | 1/5/2023
Municipality of Carolina | 1/5/2023

• Regulation: 24 CFR 985 (SEMAP).

Project/Activity: FR-6301-N-01 Regulatory and Administrative Requirement Waivers and Flexibilities Available to HUD Public Housing and Section 8 During CY 2022 and CY 2023 to Public Housing Agencies to Assist with Recovery and Relief Efforts on Behalf of Families Affected by Presidentially Declared Disasters.

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Hormigueros | 1/24/2023
Municipality of Cayey | 1/24/2023
Puerto Rico PHA | 1/13/2023
Municipality of Cidra | 1/5/2023
Municipality of Caguas | 1/5/2023
Municipality of Mayaguez | 1/5/2023
Municipality of Guaynabo | 1/5/2023
Municipality of Humacao | 1/24/2023
Municipality of Ponce | 1/5/2023
Municipality of San Juan | 1/5/2023
Municipality of Carolina | 1/5/2023
Municipality of Salinas | 1/24/2023
Municipality of Adjuntas | 1/30/2023
City of Daytona Beach | 2/7/2023
Municipality of Gurabo | 2/16/2023

• Regulation: Notice PIH 2018-24, Section 8(c) Verification of Social Security Notice (SSN).

Project/Activity: FR-6301-N-01 Regulatory and Administrative Requirement Waivers and Flexibilities Available to HUD Public Housing and Section 8 During CY 2022 and CY 2023 to Public Housing Agencies to Assist with Recovery and Relief Efforts on Behalf of Families Affected by Presidentially Declared Disasters.

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Municipality of Cayey | 1/24/2023
Puerto Rico PHA | 1/13/2023
Municipality of Guaynabo | 1/5/2023
Municipality of Humacao | 1/24/2023
Municipality of San Juan | 1/5/2023
Municipality of Bayamon | 1/5/2023
Municipality of Gurabo | 2/16/2023
City of Daytona Beach | 2/7/2023

• Regulation: 24 CFR 970.15(b)(1)(ii) Specific Criteria for HUD Approval of Demo Request.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Puerto Rico PHA | 1/13/2023
City of Daytona Beach | 2/7/2023

• Regulation: 24 CFR 970.15(b)(2) Specific Criteria for HUD Approval of Demo Request.

Project/Activity: Regulatory and Administrative Requirement Waivers and Flexibilities Available to HUD Public Housing and Section 8 During CY 2022 and CY 2023 to Public Housing Agencies to Assist with Recovery and Relief Efforts on Behalf of Families Affected by Presidentially Declared Disasters (Docket No. FR-6301-N-01).

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, Department of Housing and Urban Development, 451 Seventh Street SW, Suite 3180, Washington, DC 20410, or email to PIH_Disaster_Relief@hud.gov.

PHA | Date
Puerto Rico PHA | 1/13/2023

Extended Streamlined Waivers/Regulation 1

• Regulation: 24 CFR 982.505(c)(4) Increase in Payment Standard During Housing Assistance Payment (HAP) Contract Term.

Project/Activity: Notice PIH 2022-30 Extension of Certain Regulatory Waivers for the Housing Choice Voucher (including Mainstream) Program and Streamlined Review Process.

Nature of Requirement: PHAs may request an extension of the option to increase the payment standard for the family at any time after the effective date of the increase, rather than waiting for the next regular reexamination.

Reason Waived: Extension for PHAs that were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted By: Dominique Blom, General Deputy Assistant for Public and Indian Housing.

Date Granted: First Quarter of 2023.

Contact: Tesia Anyanaso, Office of Field Operations/Coordination and Compliance Division, Office of Public and Indian Housing, Department of Housing and Urban Development, 451 Seventh Street SW, Suite 3180, Washington, DC 20410, or email to PIH_Expedited_Waivers@hud.gov.

PHAs | Date
Hope Housing Authority | 3/8/2023
Polk County Housing Authority | 2/7/2023
Paragould Housing Authority | 3/21/2023
White River Regional Housing Authority | 2/2/2023
County of Monterey Hsg Auth | 2/17/2023
Center Housing Authority | 2/17/2023
Boulder County Housing Authority | 3/31/2023
County of Hawaii | 3/1/2023
City of Sioux City Housing Authority | 1/25/2023
Moline Housing Authority | 3/21/2023
Fulton County Housing Authority | 1/25/2023
Indianapolis Housing Agency | 3/1/2023
Housing Authority of the City of Charlestown | 3/21/2023
Housing Authority of the City of Crawfordsville | 3/8/2023
Seymour Housing Authority | 2/2/2023
Housing Authority of the City of Noblesville | 1/4/2023
Johnson County Housing Authority | 3/31/2023
Cumberland Valley Regional Housing Authority | 1/4/2023
Housing Authority of East Baton Rouge | 3/8/2023
West Springfield Housing Authority | 3/8/2023
Leominster Housing Authority | 1/25/2023
Wicomico County Housing Authority | 2/7/2023
Housing Authority of the Town of Easton | 2/17/2023
Baltimore County, MD | 1/4/2023
HRA of Duluth, Minnesota | 2/17/2023
Scotland County Public Hsg Agency | 1/25/2023
Phelps County Public Housing Agency | 2/17/2023
Housing Authority of the City of High Point | 2/6/2023
Williamston Housing Authority | 1/17/2023
Scotts Bluff County Housing Authority | 3/1/2023
West Central Nebraska Joint Housing Authority | 3/31/2023
Housing Authority of the Township of Middleton | 3/16/2023
Lorain Metropolitan Housing Authority | 2/2/2023
Oklahoma Housing Finance Agency | 2/2/2023
Reading Housing Authority | 2/2/2023
Clearfield County Housing Authority | 3/28/2023
Housing Authority Providence | 2/7/2023
Municipality of Patillas | 3/8/2023
Housing Authority of the City of Columbia | 2/7/2023
Housing Authority of Fort Mill | 3/31/2023
Vermillion Housing And Redevelopment Commission | 3/31/2023
East Tennessee Human Resource Agency | 3/16/2023
Hampton Redevelopment & Housing Authority | 1/25/2023
Va. Beach Dept. of Hsg & Neighborhood Pres | 3/1/2023
Housing Authority of Skagit County | 2/7/2023
Racine County Housing Authority | 3/8/2023
Kenosha Housing Authority | 3/28/2023
Sawyer County Housing Authority | 3/21/2023
Dodge County Housing Authority | 3/28/2023
Charleston/Kanawha Housing Authority | 3/28/2023
Housing Authority of the City of Martinsburg | 3/8/2023
Housing Authority of Raleigh County | 3/28/2023

Extended Streamlined Waivers/Regulation 2

• Regulation: 24 CFR 982.503(b) Voucher Tenancy: New Payment Standard Amount.

Project/Activity: Notice PIH 2022-30 Extension of Certain Regulatory Waivers for the Housing Choice Voucher (including Mainstream) Program and Streamlined Review Process.

Nature of Requirement: PHAs may request an extension of expedited waiver(s) to allow for establishment of payment standards from 111 to 120 percent of the FMR.

Reason Waived: Extension for PHAs that were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted By: Dominique Blom, General Deputy Assistant for Public and Indian Housing.

Date Granted: First Quarter of 2023.

Contact: Tesia Anyanaso, Office of Field Operations/Coordination and Compliance Division, Office of Public and Indian Housing, Department of Housing and Urban Development, 451 Seventh Street SW, Suite 3180, Washington, DC 20410-5000, or email to PIH_Expedited_Waivers@hud.gov.

PHAs | Date
HA Midland City | 2/17/2023
Hope Housing Authority | 3/8/2023
Polk County Housing Authority | 2/7/2023
Paragould Housing Authority | 3/21/2023
White River Regional Housing Authority | 2/2/2023
Pulaski County Housing Agency | 3/21/2023
Center Housing Authority | 2/17/2023
Housing Authority of the City of Miami Beach | 2/2/2023
County of Hawaii | 3/1/2023
County of Maui | 3/8/2023
Indianapolis Housing Agency | 3/1/2023
Housing Authority of the City of Crawfordsville | 3/8/2023
Seymour Housing Authority | 2/2/2023
South Central KS Area Agency on Aging (Cowley Co.) | 3/16/2023
Housing Authority of Newport | 3/8/2023
Cumberland Valley Regional Housing Authority | 1/4/2023
Housing Authority of East Baton Rouge | 3/8/2023
West Springfield Housing Authority | 3/8/2023
Wicomico County Housing Authority | 2/7/2023
Housing Authority of the Town of Easton | 2/17/2023
Baltimore County, MD | 1/4/2023
Phelps County Public Housing Agency | 2/17/2023
Whitefish Housing Authority | 2/17/2023
Housing Authority of the City of High Point | 2/6/2023
Williamston Housing Authority | 1/17/2023
Scotts Bluff County Housing Authority | 3/1/2023
Housing Authority of the Township of Middleton | 3/16/2023
Cortland Housing Authority | 3/16/2023
Hudson Housing Authority | 2/17/2023
Village of New Hartford | 3/21/2023
Lorain Metropolitan Housing Authority | 2/2/2023
Erie Metropolitan Housing Authority | 1/17/2023
Hocking Metropolitan Housing Authority | 2/2/2023
Emerald Development and Economic Network | 3/31/2023
Oklahoma Housing Finance Agency | 2/2/2023
Reading Housing Authority | 2/2/2023
Clearfield County Housing Authority | 3/28/2023
Housing Authority Providence | 3/21/2023
Municipality of Patillas | 3/8/2023
Housing Authority of the City of Columbia | 2/7/2023
Vermillion Housing And Redevelopment Commission | 3/31/2023
Murfreesboro Housing Authority | 3/21/2023
East Tennessee Human Resource Agency | 3/16/2023
Housing Authority of Odessa | 3/8/2023
Panhandle Community Services | 2/7/2023
Housing Authority of the City of Ogden | 2/7/2023
Trempealeau County Housing Authority | 3/16/2023
Racine County Housing Authority | 3/8/2023
CDA of the City of West Allis | 3/28/2023
Janesville Neighborhood Services | 3/16/2023
Sawyer County Housing Authority | 3/21/2023
Dodge County Housing Authority | 3/28/2023
Wisconsin Housing & Economic Development Authority | 3/8/2023
Charleston/Kanawha Housing Authority | 3/16/2023
Housing Authority of the City of Martinsburg | 3/8/2023
Clarksburg/Harrison Housing Authority | 2/17/2023
Housing Authority of Raleigh County | 1/17/2023

[FR Doc. 2023-22603 Filed 10-13-23; 8:45 am]

BILLING CODE 4210-67-P